SECURITIES AND EXCHANGE COMMISSION

[File No. 500-1]

In the Matter of NuTech Energy Resources, Inc.; Order of Suspension of Trading

May 20, 2016.

It appears to the Securities and Exchange Commission that there is a lack of current and accurate information concerning the securities of NuTech Energy Resources, Inc. (“NERG”) because of concerns regarding the accuracy and adequacy of information in the marketplace about the company's operations and the company's recent public announcements concerning an unsolicited tender offer. NERG is a Delaware corporation with its principal place of business located in Gillette, Wyoming. Its stock is quoted on OTC Link, operated by OTC Markets Group Inc., under the ticker: NERG.

The Commission is of the opinion that the public interest and the protection of investors require a suspension of trading in the securities of the above-listed company.

Therefore, it is ordered, pursuant to Section 12(k) of the Securities Exchange Act of 1934, that trading in the securities of the above-listed company is suspended for the period from 9:30 a.m. EDT on May 20, 2016, through 11:59 p.m. EDT on June 3, 2016.

By the Commission.
Lynn M. Powalski,
Deputy Secretary.

[FR Doc. 2016-12290 Filed 5-20-16; 11:15 am]

BILLING CODE 8011-01-P